NEIGHBORHOOD REINVESTMENT CORPORATION

Sunshine Act Meetings

TIME AND DATE: 1 p.m., Tuesday, April 15, 2025.

PLACE: via ZOOM.

STATUS: Parts of this meeting will be open to the public. The rest of the meeting will be closed to the public.

MATTERS TO BE CONSIDERED: Regular Board of Directors meeting.

The General Counsel of the Corporation has certified that in her opinion, one or more of the exemptions set forth in the Government in the Sunshine Act, 5 U.S.C. 552b(c)(2) permit closure of the following portion(s) of this meeting:

• Executive (Closed) Session

Agenda

I. Call to Order

II. Discussion Item: FY2024 External Audit Discussion with External Auditors

III. Sunshine Act Approval of Executive (Closed) Session

IV. Executive Session: Executive Session with External Auditors

V. Executive Session: CEO Report

VI. Executive Session: CFO Report

VII. Executive Session: General Counsel Report

VIII. Executive Session: CIO Report

IX. Executive Session: Officer Performance Metrics

X. Action Item: Approval of Meeting Minutes for February 18 Regular Board Meeting

XI. Action Item: Approval of FY2024 External Audit

XII. Action Item: Approval of Special Health Insurance Delegation

XIII. Discussion Item: March 25 Audit Committee Report

XIV. Discussion Item: Capital Corporations Update and Grant Request for June

XV. Discussion Item: Investment Policy Review

XVI. Discussion Item: Management Program Background and Updates

a. 2025 Board Calendar

b. 2025 Board Agenda Planner

c. CFO Report

i. Financials (through 1/31/25)

ii. Single Invoice Approvals $100K and over

iii. Vendor Payments $350K and over

iv. Exceptions

d. Programs Dashboard

e. Housing Stability Counseling Program (HSCP)

f. Strategic Plan Scorecard—FY25 Q1

PORTIONS OPEN TO THE PUBLIC: Everything except the Executive (closed) session.

PORTIONS CLOSED TO THE PUBLIC: Executive (closed) session.

CONTACT PERSON FOR MORE INFORMATION: Jenna Sylvester, Paralegal, (202) 568-2560; jsylvester@nw.org.

Jenna Sylvester,
Paralegal.

[FR Doc. 2025-05874 Filed 4-1-25; 4:15 pm]

BILLING CODE 7570-01-P